DEPARTMENT OF ENERGY

Federal Energy Regulatory Commission

Combined Notice of Filings #1

Take notice that the Commission received the following electric corporate filings:

Docket Numbers: EC18-107-000.

Applicants: New Covert Generating Company, LLC.

Description: Application for Authorization for Disposition of Jurisdictional Facilities and Request for Expedited Action of New Covert Generating Company, LLC.

Filed Date: 6/21/18.

Accession Number: 20180621-5121.

Comments Due: 5 p.m. ET 7/12/18.

Docket Numbers: EC18-108-000.

Applicants: Red Pine Wind Project, LLC, PGGM Cooperatie U.A.

Description: Joint Application for Authorization for Disposition of Jurisdictional Facilities and Request for Expedited Action of Red Pine Wind Project, LLC.

Filed Date: 6/22/18.

Accession Number: 20180622-5065.

Comments Due: 5 p.m. ET 7/13/18.

Docket Numbers: EC18-109-000.

Applicants: Rock Falls Wind Farm LLC, PGGM Cooperatie U.A.

Description: Joint Application for Authorization for Disposition of Jurisdictional Facilities and Request for Confidential Treatment and Expedited Action of Rock Falls Wind Farm LLC, et. al.

Filed Date: 6/22/18.

Accession Number: 20180622-5067.

Comments Due: 5 p.m. ET 7/13/18.

Docket Numbers: EC18-110-000.

Applicants: Playa Solar 1, LLC, Playa Solar 2, LLC, PGGM Cooperatie U.A.

Description: Joint Application for Authorization for Disposition of Jurisdictional Facilities, and Request for Confidential Treatment and Expedited Action of Playa Solar 1, LLC, et. al.

Filed Date: 6/22/18.

Accession Number: 20180622-5069.

Comments Due: 5 p.m. ET 7/13/18.

Take notice that the Commission received the following electric rate filings:

Docket Numbers: ER10-2739-022; ER14-1219-009; ER16-1732-008; ER17-993-007; ER18-95-004; ER10-2729-009; ER17-989-007; ER10-1892-009; ER10-1854-014; ER17-990-007; ER17-1946-007; ER17-991-007; ER16-1652-010; ER11-3320-014; ER10-2744-015; ER16-2406-008; ER16-2405-008; ER13-2316-012; ER17-992-007; ER10-2678-015; ER10-1631-014; ER14-19-013.

Applicants: LS Power Marketing, LLC, Armstrong Power, LLC, Aurora Generation, LLC, Bath County Energy, LLC, Buchanan Energy Services Company, LLC, Buchanan Generation, LLC, Chambersburg Energy, LLC, Columbia Energy LLC, Doswell Limited Partnership, Gans Energy, LLC, Helix Ironwood, LLC, Hunlock Energy, LLC, LifeEnergy, LLC, LSP University Park, LLC, Riverside Generating Company, L.L.C., Rockford Power, LLC, Rockford Power II, LLC, Seneca Generation, LLC, Springdale Energy, LLC, Troy Energy, LLC, University Park Energy, LLC, West Deptford Energy, LLC.

Description: Notification of Change in Status of the LS PJM MBR Sellers.

Filed Date: 6/22/18.

Accession Number: 20180622-5133.

Comments Due: 5 p.m. ET 7/13/18.

Docket Numbers: ER16-1226-001.

Applicants: New Covert Generating Company, LLC.

Description: Compliance filing: Informational Filing Pursuant to Schedule 2 of the PJM OATT to be effective N/A.

Filed Date: 6/22/18.

Accession Number: 20180622-5081.

Comments Due: 5 p.m. ET 7/13/18.

Docket Numbers: ER17-424-004.

Applicants: Footprint Power Salem Harbor Development LP.

Description: Notice of Non-Material Change in Status of Footprint Power Salem Harbor Development LP.

Filed Date: 6/22/18.

Accession Number: 20180622-5115.

Comments Due: 5 p.m. ET 7/13/18.

Docket Numbers: ER18-784-002.

Applicants: Upstream Wind Energy LLC.

Description: Notification of Change in Facts Under Market-Based Rate Authority of Upstream Wind Energy LLC.

Filed Date: 6/22/18.

Accession Number: 20180622-5109.

Comments Due: 5 p.m. ET 7/13/18.

Docket Numbers: ER18-954-002.

Applicants: Appalachian Power Company.

Description: Tariff Amendment: OATT-Attachment K, AEPTX Rate Update—Amendment to be effective 12/31/9998.

Filed Date: 6/22/18.

Accession Number: 20180622-5141.

Comments Due: 5 p.m. ET 7/13/18.

Docket Numbers: ER18-1701-001.

Applicants: Southwest Power Pool, Inc.

Description: Tariff Amendment: 1628R12 Western Farmers Electric Cooperative NITSA NOA to be effective 5/1/2018.

Filed Date: 6/22/18.

Accession Number: 20180622-5113.

Comments Due: 5 p.m. ET 7/13/18.

Docket Numbers: ER18-1813-000.

Applicants: Power Up Energy, LLC.

Description: Baseline eTariff Filing: Market-Based Rate Tariff Application to be effective 6/22/2018.

Filed Date: 6/21/18.

Accession Number: 20180621-5112.

Comments Due: 5 p.m. ET 7/12/18.

Docket Numbers: ER18-1814-000.

Applicants: El Paso Electric Company.

Description: § 205(d) Rate Filing: Rate Schedule No. 114 Agreement on Interconnection Study Costs to be effective 8/20/2018.

Filed Date: 6/21/18.

Accession Number: 20180621-5114.

Comments Due: 5 p.m. ET 7/12/18.

Docket Numbers: ER18-1815-000.

Applicants: PJM Interconnection, L.L.C.

Description: Tariff Cancellation: Notice of Cancellation of ISA SA No. 4226; Queue No. V1-012 to be effective 6/15/2018.

Filed Date: 6/22/18.

Accession Number: 20180622-5044.

Comments Due: 5 p.m. ET 7/13/18.

Docket Numbers: ER18-1816-000.

Applicants: Midwest Power Transmission Arkansas, LLC.

Description: Compliance filing: Compliance Filing Docket No. E18-14 to be effective 10/26/2017.

Filed Date: 6/22/18.

Accession Number: 20180622-5052.

Comments Due: 5 p.m. ET 7/13/18.

Docket Numbers: ER18-1817-000.

Applicants: New York Transco, LLC.

Description: Petition of New York Transco LLC for Limited Waiver of Tariff Provisions, et al.

Filed Date: 6/22/18.

Accession Number: 20180622-5072.

Comments Due: 5 p.m. ET 7/2/18.

Docket Numbers: ER18-1818-000.

Applicants: Portland General Electric Company.

Description: § 205(d) Rate Filing: Attachment C Filing to be effective 6/25/2018.

Filed Date: 6/22/18.

Accession Number: 20180622-5080.

Comments Due: 5 p.m. ET 7/13/18.

Docket Numbers: ER18-1819-000.

Applicants: Midcontinent Independent System Operator, Inc.

Description: § 205(d) Rate Filing: 2018-06-22 SA 3122 Pioneer-NIPSCO Interconnection Agreement to be effective 6/20/2018.

Filed Date: 6/22/18.

Accession Number: 20180622-5085.

Comments Due: 5 p.m. ET 7/13/18.

Docket Numbers: ER18-1820-000.

Applicants: PJM Interconnection, L.L.C.

Description: § 205(d) Rate Filing: Original ISA, SA No. 5106; Queue No. AB2-043 to be effective 5/23/2018.

Filed Date: 6/22/18.

Accession Number: 20180622-5107.

Comments Due: 5 p.m. ET 7/13/18.

Docket Numbers: ER18-1821-000.

Applicants: Walleye Power, LLC.

Description: Compliance filing: Notice of Succession to be effective 6/23/2018.

Filed Date: 6/22/18.

Accession Number: 20180622-5127.

Comments Due: 5 p.m. ET 7/13/18.

Docket Numbers: ER18-1822-000.

Applicants: California Independent System Operator Corporation.

Description: § 205(d) Rate Filing: 2018-06-22 Amendment to TCA to add Citizens Sycamore-Penasquitos as PTO to be effective 8/31/2018.

Filed Date: 6/22/18.

Accession Number: 20180622-5128.

Comments Due: 5 p.m. ET 7/13/18.

Docket Numbers: ER18-1823-000.

Applicants: Walleye Power, LLC.

Description: Compliance filing: Notice of Succession to be effective 12/31/9998.

Filed Date: 6/22/18.

Accession Number: 20180622-5134.

Comments Due: 5 p.m. ET 7/13/18.

Docket Numbers: ER18-1824-000.

Applicants: Southwestern Electric Power Company.

Description: § 205(d) Rate Filing: Revised and Restated Prescott PSA to be effective 5/31/2018.

Filed Date: 6/22/18.

Accession Number: 20180622-5142.

Comments Due: 5 p.m. ET 7/13/18.

Take notice that the Commission received the following electric securities filings:

Docket Numbers: ES18-42-000.

Applicants: Indianapolis Power & Light Company.

Description: Application of Indianapolis Power & Light Company under Section 204 of the Federal Power Act for Order Authorizing Issuance of Short-Term Debt Instruments.

Filed Date: 6/21/18.

Accession Number: 20180621-5120.

Comments Due: 5 p.m. ET 7/12/18.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: June 22, 2018.
Nathaniel J. Davis, Sr.,
Deputy Secretary.

[FR Doc. 2018-13957 Filed 6-28-18; 8:45 am]

BILLING CODE 6717-01-P